DEPARTMENT OF DEFENSE

Department of the Navy

Notice of Intent To Grant Exclusive Patent License; Vedevo, Inc

AGENCY: Department of the Navy, DoD.

ACTION: Notice of intent to grant license.

SUMMARY: The Department of the Navy hereby gives notice of its intent to grant to Vedevo, Inc. (Capitola, CA) a revocable, nonassignable, exclusive license to practice in the field of use of data compression method for use in still images, in the field of use of data compression method for use in video streaming, in the field of use of data compression method for use in digital signal processing, in the field of use of data compression method for use in computer graphics, in the field of use of data compression method for use in video games, in the field of use of data compression method for use in virtual reality, in the field of use of data compression method for use in medical imaging & diagnostics, in the field of use of data compression method for use in data storage, in the field of use of data compression method for use in security systems, and in the field of use of data compression method for use in numerical methods, the Government-Owned invention described in U.S. Patent No. 8,526,746 issued September 3, 2013 titled “NEAR-LOSSLESS DATA COMPRESSION METHOD USING NONUNIFORM SAMPLING.”

DATES: Anyone wishing to object to the grant of this license must file written objections along with supporting evidence, if any, not later than December 18, 2018.

ADDRESSES: Written objections are to be filed with the Office of Research and Technology Applications, Naval Postgraduate School, Research and Sponsored Programs Office, NPS Code 41, 699 Dyer Road, Bldg. HA, Room 226, Monterey, CA 93943.

FOR FURTHER INFORMATION CONTACT: Ms. Deborah Buettner, Director, Research and Sponsored Programs Office, NPS Code 41, 699 Dyer Road, Bldg. HA, Room 226, Monterey, CA 93943, telephone 831-656-7893. Due to U.S. Postal delays, please fax 831-656-2038, email: dbuettne@nps.edu or use courier delivery to expedite response.

Authority: 35 U.S.C. 209(e); 37 CFR 404.7

Dated: November 28, 2018.
Meredith Steingold Werner,
Commander, Judge Advocate General's Corps, U.S. Navy, Federal Register Liaison Officer.

[FR Doc. 2018-26212 Filed 11-30-18; 8:45 am]

BILLING CODE 3810-FF-P